DEPARTMENT OF TRANSPORTATION

Federal Aviation Administration

14 CFR Part 95

[Docket No. 30271; Amdt. No. 431]

IFR Altitudes; Miscellaneous Amendments

AGENCY: Federal Aviation Administration (FAA), DOT.

ACTION: Final rule.

SUMMARY: The amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

EFFECTIVE DATE: 0901 UTC, November 1, 2001.

FOR FURTHER INFORMATION CONTACT: Donald P. Pate, Flight Procedure Standards Branch (AMCAFS-420), Flight Technologies and Programs Division, Flight Standards Service, Federal Aviation Administration, Mike Monorey Aeronautical Center, 6500 South MacArthur Blvd. Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on September 21, 2001.
Nicholas A. Sabatini,
Director, Flight Standards Service.

Adoption of The Amendment

Accordingly, pursuant to the authority delegated to me by the Administrator, part 95 of the Federal Aviation Regulations (14 CFR part 95) is amended as follows effective at 0901 UTC,

1. The authority citation for part 95 continues to read as follows:

Authority: 49 U.S.C. 106(g), 40103, 40106, 40113, 40114, 40120, 44502, 44514, 44719, 44721.

2. Part 95 amended to read as follows:

Revisions to IFR Altitudes and Changeover Points
[Amendment 431, Effective Date: November 1, 2001]
From | To | MEA
§ 95.6001 VICTOR ROUTES-U.S.
§ 95.6010 VOR Federal Airway 10 Is Amended To Read in Part
Youngstown, OH VORTAC | Volan, PA FIX | 3000
Volan, PA FIX | Talls, PA FIX | *4000
*3100-MOCA
Talls, PA FIX | Revloc, PA VOR/DME | 4000
§ 95.6015 VOR Federal Airway 15 Is Amended To Read in Part
Hobby, TX VOR/DME | Navasota, TX VORTAC | 2100
§ 95.6020 VOR Federal Airway 20 Is Amended To Read in Part
Palacios, TX VORTAC | Keeds, TX INT | 1700
Keeds, TX INT | Hobby, TX VOR/DME | 2500
Hobby, TX VOR/DME | Beaumont, TX VOR/DME | 1800
§ 95.6035 VOR Federal Airway 35 Is Amended To Read in Part
Ended, FL FIX | Cross City, FL VORTAC | *3000
*1500-MOCA
§ 95.6066 VOR Federal Airway 66 Is Amended To Read in Part
Pecos, TX VOR/DME | Midland, TX VORTAC | 5000
§ 95.6093 VOR Federal Airway 93 Is Amended To Read in Part
Vinny, PA FIX | Lancaster, PA VORTAC | *4500
*2600-MOCA
§ 95.6157 VOR Federal Airway 157 Is Amended To Read in Part
Ocala, FL VORTAC | Taylor, FL VORTAC | 2000
§ 95.6161 VOR Federal Airway 161 Is Amended To Read in Part
Llano, TX VORTAC | *Built, TX FIX | **6000
*6000-MRA
**2800-MOCA
§ 95.6194 VOR Federal Airway 194 Is Amended To Read in Part
Hobby, TX VOR/DME | Stros, TX INT | 2000
Stros, TX INT | Sabine Pass, TX VOR/DME | 3000
§ 95.6198 VOR Federal Airway 198 Is Amended To Read in Part
Eagle Lake, TX VOR/DME | Blums, TX INT | *2100
*1500-MOCA
Blums, TX INT | Hobby, TX VOR/DME | 2400
Hobby, TX VOR/DME | Stros, TX INT | 2000
Stros, TX INT | Sabine Pass, TX VOR/DME | 3000
§ 95.6210 VOR Federal Airway 210 Is Amended To Read in Part
Volan, PA FIX | Talls, PA FIX | \*\4000
*3100-MOCA
Talls, PA FIX | Revloc, PA VOR/DME | 4000
§ 95.6297 VOR Federal Airway 297 Is Amended To Read in Part
Talls, PA FIX | Volan, PA FIX | *4000
*3100-MOCA
§ 95.6320 VOR Federal Airway 320 Is Amended To Read in Part
Traverse City, MI VORTAC | Mt. Pleasant, MI VOR/DME | *5000
*3000-MOCA
§ 95.6358 VOR Federal Airway 358 Is Amended To Read in Part
Lampasas, TX VORTAC | Sonet, TX FIX | 3000
Sonet, TX FIX | Waco, TX VORTAC | 2700
§ 95.6437 VOR Federal Airway 437 Is Amended To Read in Part
Ormond Beach, FL VORTAC | *Cokes, FL FIX | **2000
*3000-MRA
**1400-MOCA
§ 95.6441 VOR Federal Airway 441 Is Amended To Read in Part
Baypo, FL FIX | *Nitts, FL FIX | **4000
*3000-MRA
**1700-MOCA
Nitts, FL FIX | Ocala, FL VORTAC | 2000
Ocala, FL VORTAC | Gators, FL VORTAC | 2000
Gators, FL VORTAC | Brunswick, GA VORTAC | *3000
*1800-MOCA
§ 95.6457 VOR Federal Airway 457 Is Amended To Read in Part
Lancaster, PA VORTAC | Vinny, PA FIX | *4500
**2600-MOCA
§ 95.6537 VOR Federal Airway 537 Is Amended To Read in Part
Ocala, FL VORTAC | Gators, FL VORTAC | 2000
Gators, FL VORTAC | Alvin, FL FIX | *3000
*2000-MOCA
Alvin, FL FIX | Greenville, FL VORTAC | 2000
§ 95.6558 VOR Federal Airway 558 Is Amended To Read in Part
Eagle Lake, TX VOR/DME | Blums, TX INT | *2100
*1500-MOCA
Blums, TX INT | Hobby, TX VOR/DME | 2400
§ 95.6579 VOR Federal Airway 579 Is Amended To Read in Part
Baypo, FL FIX | *Nitts, FL FIX | **4000
*3000-MRA
**1700-MOCA
Nitts, FL FIX | Gators, FL VORTAC | *3000
*2000-MOCA
Gators, FL VORTAC | Cross City, FL VORTAC | 2000

From | To | MEA | MAA
§ 95.7001 JET ROUTES |
§ 95.7030 Jet Route No. 30 Is Amended To Read in Part
Bucko, WV FIX | Kessel, WV VOR/DME | 18000 | #45000
§ 95.7034 Jet Route No. 34 Is Amended To Read in Part
Bucko, WV FIX | Kessel, WV VOR/DME | 18000 | 45000
§ 95.7055 Jet Route No. 55 Is Amended To Read in Part
Dolphin, FL VORTAC | Llake, FL FIX | 18000 | 45000
Llake, FL FIX | Inpin, FL FIX | 23000 | 45000
Inpin, FL FIX | Craig, FL VORTAC | 18000 | 45000
§ 95.7058 Jet Route No. 58 Is Amended To Read in Part
Harvey, LA VORTAC | Sarasota, FL VORTAC | 18000
Sarasota, FL VORTAC | Lee County, FL VORTAC | 18000 | 45000
§ 95.7084 Jet Route No. 84 Is Amended To Read in Part
Sidney, NE VORTAC | Wolbach, NE VORTAC | 18000 | 45000
#MEA Is Established With a Gap in Navigational Coverage
§ 95.7085 Jet Route No. 85 Is Amended To Read in Part
Dolphin, FL VORTAC | Llake, FL FIX | 18000 | 45000
Llake, FL FIX | Inpin, FL FIX | 23000 | 45000
Inpin, FL, FIX | Gators, FL VORTAC | 18000 | 45000
§ 95.7086 Jet Route No. 86 Is Amended To Read in Part
Humble, TX VORTAC | Sarasota, FL VORTAC | 18000 | 45000
Sarasota, FL VORTAC | La Belle, FL VORTAC | 23000 | 45000
§ 95.7100 Jet Route No. 100 Is Amended To Read in Part
Sidney, NE VORTAC | Wolbach, NE VORTAC | #18000 | 45000
#MEA Is Established With a Gap in Navigational Coverage

Airway segment: From | Airway segment: To | Changeover points: Distance | Changeover points: From
§ 95.8003 VOR Federal Airway Changeover Points
V-10 is Amended To Add Changeover Point
Youngstown, OH VORTAC | Revloc, PA VOR/DME | 37 | Youngstown.
V-210 Is Amended To Add Changeover Point
Volan, PA FIX | Revloc, PA VOR/DME | #37 | Volan.
#COP Measured From Youngstown, OH VORTAC
V-297 Is Amended To Add Changeover Point
Talls, PA FIX | Youngstown, OH VORTAC | #62 | Talls.
#COP Measured From Revloc, PA VOR/DME

[FR Doc. 01-24093 Filed 9-25-01; 8:45 am]

BILLING CODE 4910-13-M